DEPARTMENT OF AGRICULTURE

Natural Resources Conservation Service

Notice of Availability

AGENCY: Natural Resources Conservation Service, USDA.

ACTION: Notice of availability.

SUMMARY: The Natural Resources Conservation Service (NRCS), has prepared an Environmental Assessment consistent with the National Environmental Policy Act of 1969, as amended. The Goshute Spring Range Improvement is a federally assisted action authorized for planning under Public Law 76-159 the Soil Conservation and Domestic Allotment Act, and federal financial assistance through the Enviromental Quality Incentives Program. An Environmental Assessment was undertaken in conjunction with the development of the conservation plan. This assessment was undertaken in conjunction with local, state, and federal agencies as well as the Goshute Tribal Government, and other interested parties and individuals. Upon review of the information in the Goshute Spring Range Improvement, the State Conservationist, NRCS, Utah, made a Finding of No Significant Impact (FONSI) and the determination was made that no environmental impact statement is required to support the Goshute Spring Range Improvement. Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Goshute Spring Range Improvement, Goshute Reservation, Ibapah, Utah. Written comments regarding this action may be submitted to: Sylvia Gillen, State Conservationist, USDA/NRCS, Wallace F. Bennett Federal Building, 125 South State Street, Room 4402, Salt Lake City, UT 84138-1100. Comments must be received no later than 30 days after this notice is published.

EFFECTIVE DATE: April 15, 2005.

FOR FURTHER INFORMATION CONTACT: Sylvia Gillen, State Conservationist, Natural Resources Conservation Service, Wallace F. Bennett Federal Building, 125 South State Street, Room 4402, Salt Lake City, Utah 84138-1100; telephone (801) 524-4550.

SUPPLEMENTARY INFORMATION: The Environmental Assessment of this federally assisted action documents that the project will not cause significant local, regional, state, or national impacts on the human environment. The findings of Sylvia Gillen, State Conservationist, indicate that the preparation and review of an environmental impact statement is not needed for this project.

The proposed action is the conversion of approximately 1,000 acres of Pinyon-Juniper sites in pasture 5a to a grassland site. The conversion would be accomplished through chaining, prescribed burning, and seeding. The site would be chained in the spring, burned in the late summer or fall, and aerial seeded in the fall followed by back chaining to cover the seed.

Basic data developed during the environmental evaluation are on file and may be reviewed by contacting Sylvia Gillen, Utah State Conservationist. Copies of the Environmental Assessment and FONSI may be obtained from Mr. Jeremy Maestas, Acting District Conservationist, USDA-NRCS, 1030 West 5370 South, Suite 100, Murray, Utah 84123; telephone: (801) 263-3204, extension 107.

No administrative action on implementation of this project will be taken until 30 days after the date of this notice is published.

(This activity is listed in the Catalog of Federal Domestic Assistance under No. 10.902, Soil and Water Conservation and Environmental Quality Incentive Program 10.912.)

Signed in Salt Lake City, Utah, on April 8, 2005.
Gary J. Jann,
Assistant State Conservationist.

[FR Doc. 05-7579 Filed 4-14-05; 8:45 am]

BILLING CODE 3410-16-P